DEPARTMENT OF VETERANS AFFAIRS

[OMB Control No. 2900-NEW]

Agency Information Collection Activity: Per Diem to States for Care of Eligible Veterans in State Homes

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before September 23, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-NEW” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Per Diem to States for Care of Eligible Veterans in State Homes (VA Forms 10-0143, 10-0143A, 10-0144, 10-0144A, 10-0460, and 10-3567).

OMB Control Number: 2900-NEW.

Type of Review: Reinstatement of previously approved collection as a new collection.

Abstract: This collection of forms was part of a previously approved collection under OMB Control Number 2900-0160. However, it has been determined that these six forms will be separated from the other three forms in 2900-0160, and renewal is requested under a new OMB Control Number.

Title 38 CFR part 51 State Veterans Homes (SVH) regulations published in the Federal Register as final rule on November 28, 2018 (RIN 2900-A088) require the VA to ensure per diem payments are limited to facilities providing high quality care. These six forms are presented to and completed by SVH management and then assessed and utilized by VA SVH Representatives designated by the Medical Center Director of VA of jurisdiction during the annual VA survey process at each SVH across the U.S. as a regulatory action. This collection of forms falls under the auspices of Geriatrics and Extended Care in VA Central Office (10NC4). As per VHA Directive 1145.01, this collection of forms is part of the annual VA survey process. The legal requirements that necessitate this collection of information are found specifically at 38 CFR parts 51.31, 51.43, and 51.210 for all three levels of care; nursing home, domiciliary, and adult day health care.

The information required at time of the VA survey includes the application and justification for medications for a basic rate Veteran; records and reports that SVH management must maintain regarding activities of residents or participants; information relating to whether the SVH meets standards concerning residents' rights and responsibilities prior to admission or enrollment, during admission or enrollment, and upon discharge; the records and reports which SVH management and SVH health care professionals must maintain regarding residents or participants and employees; various types of documents pertaining to the management of the SVH; pharmaceutical records; and staffing documentation.

a. VA Form 10-0143—38 CFR 51.210(c)(9)—is used for the annual certification pursuant to the Drug-Free Workplace Act of 1988.

b. VA Form 10-0143A—38 CFR 51.210(c)(8)—is used for annual certification from the responsible State Agency showing compliance with Section 504 of the Rehabilitation Act of 1973 (Pub. L. 93-112).

c. VA Form 10-0144—38 CFR 51.210(c)(10)—is used for annual certification regarding lobbying, in compliance with Public Law 101-121.

d. VA Form 10-0144A—38 CFR 51.210(c)(11)—is used for annual certification of compliance with Title VI of the Civil Rights Act of 1964, as incorporated in Title 38 CFR 18.1-18.3.

e. VA Form 10-0460—38 CFR 51.43—As a condition for receiving drugs or medicine under this section or under § 17.96 of this chapter, the State must submit to the VA medical center of jurisdiction a completed VA Form 10-0460 with the corresponding prescription(s) for each eligible Veteran.

f. VA Form 10-3567—38 CFR 51.31—is completed by SVH management during the annual VA survey and used to record and then assess the following: operating beds versus recognized beds, total FTEE authorized and vacancies, as well as resident census.

VA Form 10-0143

Affected Public: State, Local, and Tribal Governments.

Estimated Annual Burden: 13 hours.

Estimated Average Burden per Respondent: 5 minutes.

Frequency of Response: Once annually.

Estimated Number of Respondents: 156.

VA Form 10-0143A

Affected Public: State, Local, and Tribal Governments.

Estimated Annual Burden: 13 hours.

Estimated Average Burden per Respondent: 5 minutes.

Frequency of Response: Once annually.

Estimated Number of Respondents: 156.

VA Form 10-0144

Affected Public: State, Local, and Tribal Governments.

Estimated Annual Burden: 13 hours.

Estimated Average Burden per Respondent: 5 minutes.

Frequency of Response: Once annually.

Estimated Number of Respondents: 156.

VA Form 10-0144A

Affected Public: State, Local, and Tribal Governments.

Estimated Annual Burden: 13 hours.

Estimated Average Burden per Respondent: 5 minutes.

Frequency of Response: Once annually.

Estimated Number of Respondents: 156.

VA Form 10-0460

Affected Public: State, Local, and Tribal Governments.

Estimated Annual Burden: 5,500 hours.

Estimated Average Burden per Respondent: 30 minutes.

Frequency of Response: Once annually.

Estimated Number of Respondents: 11,000.

VA Form 10-3567

Affected Public: State, Local, and Tribal Governments.

Estimated Annual Burden: 78 hours.

Estimated Average Burden Per Respondent: 30 minutes.

Frequency of Response: Once annually.

Estimated Number of Respondents: 156.

By direction of the Secretary.
Danny S. Green,
Interim VA Clearance Officer, Office of Quality, Performance and Risk (OQPR), Department of Veterans Affairs.

[FR Doc. 2019-15606 Filed 7-22-19; 8:45 am]

BILLING CODE 8320-01-P